ENVIRONMENTAL PROTECTION AGENCY

40 CFR Parts 1, 21, 35, 49, 52, 59, 60, 61, 62, 63, 65, 82, 147, 272, 282, 374, 707, and 763

[FRL-9998-08-Region 6]

Regional Office Address

AGENCY: Environmental Protection Agency (EPA).

ACTION: Final rule; technical amendments.

SUMMARY: The Environmental Protection Agency (EPA) is amending its regulations to reflect a change in address and organization names for EPA's Region 6 office. This action is editorial in nature and is intended to provide accuracy and clarity to EPA's regulations.

DATES: This rule is effective on August 23, 2019.

ADDRESSES: EPA Region 6, 1201 Elm Street, Suite 500, Dallas, Texas 75270-2102.

FOR FURTHER INFORMATION CONTACT: Carl Young, EPA Region 6, 214-665-6645, young.carl@epa.gov.

SUPPLEMENTARY INFORMATION: This rule makes editorial changes to various environmental regulations in title 40 of the Code of Federal Regulations (CFR) to reflect a change in address and organization names for the Region 6 office. It does not otherwise impose or amend any requirements. Pursuant to 5 U.S.C. 533 (b)(3)(B) of the Administrative Procedure Act (APA), EPA has found that the public notice and comment provisions of the APA, found at 5 U.S.C. 553(b), do not apply to this rulemaking as public notice and comment is unnecessary because this amendment to the regulations provides only technical changes to update an address or an organization name. EPA has also determined that there is good cause to waive the requirement of publication 30 days in advance of the rule's effective date pursuant to 5 U.S.C. 553(d)(3) in order for the public to have the correct address and organization names of EPA Region 6. As this action corrects the CFR and does not otherwise impose or amend any requirements, EPA has determined it does not trigger any requirements of the statutes and Executive Orders that govern rulemaking procedures.

List of Subjects

40 CFR Part 1

Environmental protection, Organization and functions (Government agencies).

40 CFR Part 21

Small businesses.

40 CFR Part 35

Environmental protection, Air pollution control, Coastal zone, Grant programs-environmental protection, Grant programs-Indians, Hazardous waste, Indians, Intergovernmental relations, Pesticides and pests, Reporting and recordkeeping requirements, Technical assistance, Waste treatment and disposal, Water pollution control, Water supply.

40 CFR Part 49

Administrative practice and procedure, Air pollution control, Intergovernmental relations, Reporting and recordkeeping requirements.

40 CFR Part 52

Administrative practice and procedure, Air pollution control, Incorporation by reference, Reporting and recordkeeping requirements.

40 CFR Part 59

Air pollution control, Reporting and recordkeeping requirements, Volatile organic compounds.

40 CFR Part 60

Administrative practice and procedure, Reporting and recordkeeping requirements.

40 CFR Part 61

Reporting and recordkeeping requirements.

40 CFR Part 62

Administrative practice and procedure.

40 CFR Part 63

Administrative practice and procedure, Air pollution control, Environmental protection, Hazardous substances, Reporting and recordkeeping requirements.

40 CFR Part 65

Air pollution control, Intergovernmental relations, Reporting and recordkeeping requirements.

40 CFR Part 82

Administrative practice and procedure, Air pollution control, Chemicals, Exports, Imports, Labeling, Reporting and recordkeeping requirements.

40 CFR Part 147

Intergovernmental relations, Reporting and recordkeeping requirements.

40 CFR Part 272

Hazardous waste, Intergovernmental relations.

40 CFR Part 282

Hazardous substances, Intergovernmental relations, Oil pollution, Water pollution control, Water supply.

40 CFR Part 374

Administrative practice and procedure, Hazardous substances, Hazardous waste, Superfund.

40 CFR Part 707

Chemicals, Environmental protection, Exports, Hazardous substances, Imports, Reporting and recordkeeping requirements.

40 CFR Part 763

Administrative practice and procedure, Asbestos, Intergovernmental relations, Reporting and recordkeeping requirements, Schools.

Dated: August 13, 2019.
Kenley McQueen,
Regional Administrator, Region 6.

Therefore, chapter I of title 40 of the Code of Federal Regulations is amended as follows:

PART 1—STATEMENT OF ORGANIZATION AND GENERAL INFORMATION

1. The authority citation for part 1 continues to read as follows:

Authority: 5 U.S.C. 552.

Subpart A—Introduction

2. Section 1.7 is amended by revising paragraph (b)(6) to read as follows:

§ 1.7 Location of principal offices.

* * * * *

(b) * * *

(6) EPA Region 6, 1201 Elm Street, Suite 500, Dallas, Texas 75270-2102. (Arkansas, Louisiana, New Mexico, Oklahoma, and Texas.)

* * * * *

PART 21—SMALL BUSINESS

3. The authority citation for part 21 continues to read as follows:

Authority: 15 U.S.C. 636, as amended by Pub. L. 92-500.

4. Section 21.3 is amended in the table in paragraph (a) by revising the entry for “Region VI” to read as follows:

§ 21.3 Submission of applications.

(a) * * *

Region | Address | State
* * * * * * *
VI | Regional Administrator, EPA Region 6, 1201 Elm Street, Suite 500, Dallas, Texas 75270-2102 | Arkansas, Louisiana, New Mexico, Oklahoma, and Texas.
* * * * * * *

* * * * *

PART 35—STATE AND LOCAL ASSISTANCE

5. The authority citation for part 35 continues to read as follows:

Authority: 42 U.S.C. 4368b, unless otherwise noted.

Subpart M—Grants for Technical Assistance

6. Section 35.4275 is amended by revising paragraph (f) to read as follows:

§ 35.4275 Where can my group get the documents this subpart references (for example Whitehouse OMB circulars, eCFR and tag website, EPA HQ/Regional offices, grant forms)?

* * * * *

(f) TAG Coordinator or Grants Office, U.S. EPA Region 6, 1201 Elm Street, Suite 500, Dallas, Texas 75270-2102.

* * * * *

PART 49—INDIAN COUNTRY: AIR QUALITY PLANNING AND MANAGEMENT

7. The authority citation for part 49 continues to read as follows:

Authority: 42 U.S.C. 7401 et seq.

Subpart C—General Federal Implementation Plan Provisions

8. Section 49.162 is amended in table 2 in paragraph (g) by revising the entry for “Region VI” to read as follows:

§ 49.162 Air quality permit by rule for new or modified true minor source auto body repair and miscellaneous surface coating operations in Indian country.

* * * * *

(g) * * *

Table 2—List of Reviewing Authorities and Areas of Coverage
EPA Region | Address for notification of coverage | Address for all other notification and reports | Area covered | Phone number
* * * * * * *
Region VI | Air and Radiation Division, EPA Region 6, 1201 Elm Street, Suite 500, Mail Code 6AR, Dallas, Texas 75270-2102 | Compliance and Enforcement Correspondence: Enforcement and Compliance Assurance Division, 1201 Elm Street, Suite 500, Mail Code 6ECD, Dallas, Texas 75270-2102 | Arkansas, Louisiana, New Mexico, Oklahoma, and Texas | 800-887-6063 or 214-665-2760
* * * * * * *

9. Section 49.163 is amended in table 1 in paragraph (f) by revising the entry for “Region VI” to read as follows:

§ 49.163 Air quality permit by rule for new or modified true minor source petroleum dry cleaning facilities in Indian country.

* * * * *

(f) * * *

Table 1—List of Reviewing Authorities and Areas of Coverage
EPA Region | Address for notification of coverage | Address for all other notification and reports | Area covered | Phone number
* * * * * * *
Region VI | Air and Radiation Division, EPA Region 6, 1201 Elm Street, Suite 500, Mail Code 6AR Dallas, Texas 75270-2102 | Compliance and Enforcement Correspondence: Enforcement and Compliance Assurance Division, 1201 Elm Street, Suite 500, Mail Code 6ECD, Dallas, Texas 75270-2102 | Arkansas, Louisiana, New Mexico, Oklahoma, and Texas | 800-887-6063 or 214-665-2760
* * * * * * *

10. Section 49.164 is amended in table 1 in paragraph (f) by revising the entry for “Region VI” to read as follows:

§ 49.164 Air quality permit by rule for new or modified true minor source gasoline dispensing facilities in Indian country.

* * * * *

(f) * * *

Table 1—List of Reviewing Authorities, and Areas of Coverage
EPA Region | Address for notification of coverage | Address for all other notification and reports | Area covered | Phone number
* * * * * * *
Region VI | Air and Radiation Division, EPA Region 6, 1201 Elm Street, Suite 500, Mail Code 6AR Dallas, Texas 75270-2102 | Compliance and Enforcement Correspondence: Enforcement and Compliance Assurance Division, 1201 Elm Street, Suite 500, Mail Code 6ECD, Dallas, Texas 75270-2102 | Arkansas, Louisiana, New Mexico, Oklahoma, and Texas | 800-887-6063 or 214-665-2760
* * * * * * *

PART 52—APPROVAL AND PROMULGATION OF IMPLEMENTATION PLANS

11. The authority citation for part 52 continues to read as follows:

Authority: 42 U.S.C. 7401 et seq.

Subpart A—General Provisions

12. Section 52.02 is amended by revising paragraph (d)(2)(vi) to read as follows:

§ 52.02 Introduction.

* * * * *

(d) * * *

(2) * * *

(vi) Arkansas, Louisiana, New Mexico, Oklahoma, and Texas. Environmental Protection Agency, Region 6, 1201 Elm Street, Suite 500, Dallas, Texas 75270-2102.

* * * * *

13. Section 52.16 is amended by revising paragraph (b)(6) to read as follows:

§ 52.16 Submission to Administrator.

* * * * *

(b) * * *

(6) Arkansas, Louisiana, New Mexico, Oklahoma, and Texas. Environmental Protection Agency, Region 6, 1201 Elm Street, Suite 500, Dallas, Texas 75270-2102.

* * * * *

Subpart E—Arkansas

14. Section 52.170 is amended by revising paragraph (b)(3) to read as follows:

§ 52.170 Identification of plan.

* * * * *

(b) * * *

(3) Copies of the materials incorporated by reference may be inspected at https://www.epa.gov/sips-ar or the Environmental Protection Agency, Region 6, 1201 Elm Street, Suite 500, Dallas, Texas 75270-2102. If you wish to obtain material from the EPA Regional Office, please call (800) 887-6063 or (214) 665-2760.

* * * * *

15. Section 52.173 is amended by revising paragraph (c)(25) introductory text to read as follows:

§ 52.173 Visibility protection.

* * * * *

(c) * * *

(25) Reporting and recordkeeping requirements. Unless otherwise stated all requests, reports, submittals, notifications, and other communications to the Regional Administrator required under this paragraph (c) shall be submitted, unless instructed otherwise, to the Director, Air and Radiation Division, U.S. Environmental Protection Agency, Region 6, to the attention of Mail Code: AR, at 1201 Elm Street, Suite 500, Dallas, Texas 75270-2102. For each unit subject to the emissions limitation under this paragraph (c), the owner or operator shall comply with the following requirements, unless otherwise specified:

* * * * *

Subpart T—Louisiana

16. Section 52.970 is amended by revising paragraph (b)(3) to read as follows:

§ 52.970 Identification of plan.

* * * * *

(b) * * *

(3) Copies of the materials incorporated by reference may be inspected at https://www.epa.gov/sips-la or the Environmental Protection Agency, Region 6, 1201 Elm Street, Suite 500, Dallas, Texas 75270-2102. If you wish to obtain material from the EPA Regional Office, please call (800) 887-6063 or (214) 665-2760.

* * * * *

Subpart GG—New Mexico

17. Section 52.1620 is amended by revising paragraph (b)(3) to read as follows:

§ 52.1620 Identification of plan.

* * * * *

(b) * * *

(3) Copies of the materials incorporated by reference may be inspected at https://www.epa.gov/sips-nm or the Environmental Protection Agency, Region 6, 1201 Elm Street, Suite 500, Dallas, Texas 75270-2102. If you wish to obtain material from the EPA Regional Office, please call (800) 887-6063 or (214) 665-2760.

* * * * *

Subpart LL—Oklahoma

18. Section 52.1920 is amended by revising paragraph (b)(3) to read as follows:

§ 52.1920 Identification of plan.

* * * * *

(b) * * *

(3) Copies of the materials incorporated by reference may be inspected at https://www.epa.gov/sips-ok or the Environmental Protection Agency, Region 6, 1201 Elm Street, Suite 500, Dallas, Texas 75270-2102. If you wish to obtain material from the EPA Regional Office, please call (800) 887-6063 or (214) 665-2760.

* * * * *

19. Section 52.1923 is amended by revising paragraph (f) introductory text to read as follows:

§ 52.1923 Best Available Retrofit Requirements (BART) for SO2 and Interstate pollutant transport provisions; What are the FIP requirements for Units 4 and 5 of the Oklahoma Gas and Electric Muskogee plant; and Units 1 and 2 of the Oklahoma Gas and Electric Sooner plant affecting visibility?

* * * * *

(f) Reporting and Recordkeeping Requirements. Unless otherwise stated all requests, reports, submittals, notifications, and other communications to the Regional Administrator required by this section shall be submitted, unless instructed otherwise, to the Director, Air and Radiation Division, U.S. Environmental Protection Agency, Region 6, to the attention of Mail Code: AR, at 1201 Elm Street, Suite 500, Dallas, Texas 75270-2102. For each unit subject to the emissions limitation in this section and upon completion of the installation of CEMS as required in this section, the owner or operator shall comply with the following requirements:

* * * * *

Subpart SS—Texas

20. Section 52.2270 is amended by revising paragraph (b)(3) to read as follows:

§ 52.2270 Identification of plan.

* * * * *

(b) * * *

(3) Copies of the materials incorporated by reference may be inspected at https://www.epa.gov/sips-tx or the Environmental Protection Agency, Region 6, 1201 Elm Street, Suite 500, Dallas, Texas 75270-2102. If you wish to obtain material from the EPA Regional Office, please call (800) 887-6063 or (214) 665-2760.

* * * * *

21. Section 52.2302 is amended by revising paragraph (a)(6) introductory text to read as follows:

§ 52.2302 Federal implementation plan for regional haze.

* * * * *

(a) * * *

(6) Reporting and recordkeeping requirements. Unless otherwise stated all requests, reports, submittals, notifications, and other communications to the Regional Administrator required by this section shall be submitted, unless instructed otherwise, to the Director, Air and Radiation Division, U.S. Environmental Protection Agency, Region 6, to the attention of Mail Code: AR, at 1201 Elm Street, Suite 500, Dallas, Texas 75270-2102. For each unit subject to the emissions limitation in this section and upon completion of the installation of CEMS as required in this section, the owner or operator shall comply with the following requirements:

* * * * *

PART 59—NATIONAL VOLATILE ORGANIC COMPOUND EMISSION STANDARDS FOR CONSUMER AND COMMERCIAL PRODUCTS

22. The authority citation for part 59 continues to read as follows:

Authority: 42 U.S.C. 7414 and 7511b(e).

Subpart B—National Volatile Organic Compound Emission Standards for Automobile Refinish Coatings

23. Section 59.107 is amended by revising the address for “EPA Region VI” to read as follows:

§ 59.107 Addresses of EPA Regional Offices.

* * * * *

EPA Region VI (Arkansas, Louisiana, New Mexico, Oklahoma, Texas), Director, Enforcement and Compliance Assurance Division, 1201 Elm Street, Suite 500, Dallas, Texas 75270-2102.

* * * * *

Subpart C—National Volatile Organic Compound Emission Standards for Consumer Products

24. Section 59.210 is amended by revising the address for “EPA Region VI” to read as follows:

§ 59.210 Addresses of EPA Regional Offices.

* * * * *

EPA Region VI (Arkansas, Louisiana, New Mexico, Oklahoma, Texas), Director, Enforcement and Compliance Assurance Division, 1201 Elm Street, Suite 500, Mail Code 6ECD, Dallas, Texas 75270-2102.

* * * * *

Subpart D—National Volatile Organic Compound Emission Standards for Architectural Coatings

25. Section 59.409 is amended by revising the address for “EPA Region VI” to read as follows:

§ 59.409 Addresses of EPA Offices.

* * * * *

EPA Region VI (Arkansas, Louisiana, New Mexico, Oklahoma, Texas), Director, Enforcement and Compliance Assurance Division, 1201 Elm Street, Suite 500, Mail Code 6ECD, Dallas, Texas 75270-2102.

* * * * *

Subpart E—National Volatile Organic Compound Emission Standards for Aerosol Coatings

26. Section 59.512 is amended by revising the address for “EPA Region VI” to read as follows:

§ 59.512 Addresses of EPA Regional Offices.

* * * * *

EPA Region VI (Arkansas, Louisiana, New Mexico, Oklahoma, Texas), Director, Enforcement and Compliance Assurance Division, 1201 Elm Street, Suite 500, Mail Code 6ECD, Dallas, Texas 75270-2102.

* * * * *

PART 60—STANDARDS OF PERFORMANCE FOR NEW STATIONARY SOURCES

27. The authority citation for part 60 continues to read as follows:

Authority: 42 U.S.C. 7401 et seq.

Subpart A—General Provisions

28. Section 60.4 is amended in paragraph (a) by revising “Region VI” to read as follows:

§ 60.4 Address.

(a) * * *

Region VI (Arkansas, Louisiana, New Mexico, Oklahoma, Texas); Director; Enforcement and Compliance Assurance Division; U.S. Environmental Protection Agency, 1201 Elm Street, Suite 500, Mail Code 6ECD, Dallas, Texas 75270-2102.

* * * * *

PART 61—NATIONAL EMISSION STANDARDS FOR HAZARDOUS AIR POLLUTANTS

29. The authority citation for part 61 continues to read as follows:

Authority: 42 U.S.C. 7401 et seq.

Subpart A—General Provisions

30. Section 61.04 is amended in paragraph (a) by revising “Region VI” to read as follows:

§ 61.04 Address.

(a) * * *

Region VI (Arkansas, Louisiana, New Mexico, Oklahoma, Texas); Director; Enforcement and Compliance Assurance Division; U.S. Environmental Protection Agency, 1201 Elm Street, Suite 500, Mail Code 6ECD, Dallas, Texas 75270-2102.

* * * * *

PART 62—APPROVAL AND PROMULGATION OF STATE PLANS FOR DESIGNATED FACILITIES AND POLLUTANTS

31. The authority citation for part 62 continues to read as follows:

Authority: 42 U.S.C. 7401 et seq.

Subpart A—General Provisions

32. Section 62.10 is amended by revising the introductory text and the entry for “Region VI” in Table 1 to § 62.10 to read as follows:

§ 62.10 Submission to Administrator.

Except as otherwise provided in § 60.23 of this chapter, all requests, reports, applications, submittals, and other communications to the Administrator pursuant to this part shall be submitted in duplicate and addressed to the appropriate Regional Office of the Environmental Protection Agency, to the attention of the Director, Air and Radiation Division. The Regional Offices are as follows:

Table 1 to § 62.10
Region and jurisdiction covered | Address
* * * * * * *
VI—Arkansas, Louisiana, New Mexico, Oklahoma, Texas | Air and Radiation Division; U.S. Environmental Protection Agency, 1201 Elm Street, Suite 500, Mail Code 6AR, Dallas, Texas 75270-2102.
* * * * * * *

PART 63—NATIONAL EMISSION STANDARDS FOR HAZARDOUS AIR POLLUTANTS FOR SOURCE CATEGORIES

33. The authority citation for part 63 continues to read as follows:

Authority: 42 U.S.C. 7401 et seq.

Subpart A—General Provisions

34. Section 63.13 is amended in paragraph (a) by revising “Region VI” to read as follows:

§ 63.13 Addresses of State air pollution control agencies and EPA Regional Offices.

(a) * * *

EPA Region VI (Arkansas, Louisiana, New Mexico, Oklahoma, Texas); Director; Enforcement and Compliance Assurance Division; U.S. Environmental Protection Agency, 1201 Elm Street, Suite 500, Mail Code 6ECD, Dallas, Texas 75270-2102.

* * * * *

PART 65—CONSOLIDATED FEDERAL AIR RULE

35. The authority citation for part 65 continues to read as follows:

Authority: 42 U.S.C. 7401 et seq.

Subpart A—General Provisions

36. Section 65.14 is amended in paragraph (a) by revising “Region VI” to read as follows:

§ 65.14 Addresses.

(a) * * *

Region VI (Arkansas, Louisiana, New Mexico, Oklahoma, Texas); Director; Compliance Assurance and Enforcement Division; U.S. Environmental Protection Agency, 1201 Elm Street, Suite 500, Mail Code 6ECD, Dallas, Texas 75270-2102.

* * * * *

PART 82—PROTECTION OF STRATOSPHERIC OZONE

37. The authority citation for part 82 continues to read as follows:

Authority: 42 U.S.C. 7414, 7601, 7671-7671q.

Subpart B—Servicing of Motor Vehicle Air Conditioners

38. Section 82.42 is amended by revising paragraph (a)(1)(iii)(F) to read as follows:

§ 82.42 Certification, recordkeeping and public notification requirements.

(a) * * *

(1) * * *

(iii) * * *

(F) Owners or lessees of recycling or recovery equipment having their places of business in Arkansas, Louisiana, New Mexico, Oklahoma, Texas must send their certifications to: CAA Section 609 Enforcement Contact, EPA Region 6, 1201 Elm Street, Suite 500, Mail Code 6ECDAP, Dallas, Texas 75270-2102.

* * * * *

PART 147—STATE, TRIBAL, AND EPA-ADMINISTERED UNDERGROUND INJECTION CONTROL PROGRAMS

39. The authority citation for part 147 continues to read as follows:

Authority: 42 U.S.C. 300h et seq.; and 42 U.S.C. 6901 et seq.

Subpart SS—Texas

40. Section 147.2200 is amended by revising paragraph (a) introductory text to read as follows:

§ 147.2200 State administered program—Class I, III, IV and V wells.

* * * * *

(a) Incorporation by reference. The requirements set forth in the State statutes and regulations cited in this paragraph are hereby incorporated by reference and made part of the applicable UIC program under SDWA for the State of Texas. This incorporation by reference was approved by the Director of the Federal Register in accordance with 5 U.S.C. 552(a) and 1 CFR part 51. Copies of the materials that are incorporated by reference in this paragraph are available at EPA Region VI, 1201 Elm Street, Suite 500, Dallas, Texas 75270-2102 or from the National Archives and Records Administration (NARA). If you wish to obtain material from the EPA Regional Office, please call (800) 887-6063 or (214) 665-2760. For information on the availability of this material at NARA, email fedreg.legal@nara.gov, or go to: www.archives.gov/federal-register/cfr/ibr-locations.html.

* * * * *

PART 272—APPROVED STATE HAZARDOUS WASTE MANAGEMENT PROGRAMS

41. The authority citation for part 272 continues to read as follows:

Authority: Sections 2002(a), 3006, and 7004(b) of the Solid Waste Disposal Act, as amended by the Resource Conservation and Recovery Act, as amended, 42 U.S.C. 6912(a), 6926, and 6974(b).

Subpart E—Arkansas

42. Section 272.201 is amended by revising paragraph (c)(1) introductory text to read as follows:

§ 272.201 Arkansas State-administered program: Final authorization.

* * * * *

(c) * * *

(1) Incorporation by reference. The Arkansas statutes and regulations cited in paragraph (c)(1)(i) of this section are incorporated by reference as part of the hazardous waste management program under subtitle C of RCRA, 42 U.S.C. 6921 et seq. This incorporation by reference is approved by the Director of the Federal Register in accordance with 5 U.S.C. 552(a) and 1 CFR part 51. You may obtain copies of the Arkansas statutes that are incorporated by reference in this paragraph from LexisNexis, 9443 Springboro Pike, Miamisburg, Ohio 45342; Phone: (800) 833-9844; website: http://www.lexisnexis.com/store/us. Copies of the Arkansas regulations that are incorporated by reference are available from the Arkansas Department of Environmental Quality (ADEQ) website at http://www.adeq.state.ar.us/regs/default.htm or the Public Outreach Office, ADEQ, 5301 Northshore Drive, North Little Rock, Arkansas 72118-5317; Phone number: (501) 682-0923. You may inspect a copy at EPA Region 6, RCRA Permits Section (LCR-RP), Land, Chemicals and Redevelopment Division, EPA Region 6, 1201 Elm Street, Suite 500, Dallas, Texas 75270; Phone number: (214) 665-8533 or (214) 665-2760, or at the National Archives and Records Administration (NARA). For information on the availability of this material at NARA, email fedreg.legal@nara.gov, or go to: www.archives.gov/federal-register/cfr/ibr-locations.html.

* * * * *

Subpart T—Louisiana

43. Section 272.951 is amended by revising paragraphs (c)(1) introductory text and (c)(4)(ii)(B) to read as follows:

§ 272.951 Louisiana State-administered program: Final authorization.

* * * * *

(c) * * *

(1) The Louisiana statutes and regulations cited in paragraph (c)(1)(i) of this section are incorporated by reference as part of the hazardous waste management program under subtitle C of RCRA, 42 U.S.C. 6921 et seq. The Director of the Federal Register approves this incorporation by reference in accordance with 5 U.S.C. 552(a) and 1 CFR part 51. You may obtain copies of the Louisiana regulations that are incorporated by reference in this paragraph from the Office of the State Register, P.O. Box 94095, Baton Rouge, LA 70804-9095; Phone number: (225) 342-5015; website: https://www.doa.la.gov/Pages/osr/Index.aspx. The statutes are available from West Publishing Company, 610 Opperman Drive, P.O. Box 64526, St. Paul, Minnesota 55164 0526; Phone: 1-800-328-4880; website: http://west.thomson.com. You may inspect a copy at EPA Region 6, RCRA Permits Section (LCR-RP), Land, Chemicals and Redevelopment Division, EPA Region 6, 1201 Elm Street, Suite 500, Dallas, Texas 75270, (Phone number (214) 665-8533 or (214) 665-2760), or at the National Archives and Records Administration (NARA). For information on the availability of this material at NARA, email fedreg.legal@nara.gov, or go to: www.archives.gov/federal-register/cfr/ibr-locations.html.

* * * * *

(4) * * *

(ii) * * *

(B) The actual State regulatory text authorized by EPA (i.e., without the unauthorized amendments) is available as a separate document, Addendum to the EPA-Approved Louisiana Regulatory and Statutory Requirements Applicable to the Hazardous Waste Management Program, dated November 2015. Copies of the document can be obtained from U.S. EPA Region 6, RCRA Permits Section (LCR-RP), Land, Chemicals and Redevelopment Division, EPA Region 6, 1201 Elm Street, Suite 500, Dallas, Texas 75270 or Louisiana Department of Environmental Quality, 602 N. Fifth Street, Baton Rouge, Louisiana 70884-2178.

* * * * *

Subpart GG—New Mexico

44. Section 272.1601 is amended by revising paragraph (c)(1) introductory text to read as follows:

§ 272.1601 New Mexico State-Administered Program: Final Authorization.

* * * * *

(c) * * *

(1) The New Mexico statutes and regulations cited in paragraph (c)(1)(i) of this section are incorporated by reference as part of the hazardous waste management program under subtitle C of RCRA, 42 U.S.C. 6921 et seq. The Director of the Federal Register approves this incorporation by reference in accordance with 5 U.S.C. 552(a) and 1 CFR part 51. You may obtain copies of the New Mexico regulations that are incorporated by reference in this paragraph from the New Mexico Commission of Public Records, State Records Center and Archives, Administrative Law Division, 1205 Camino Carlos Rey, Santa Fe, NM 87507. The statutes are available from Conway Greene Company, 1400 East 30th Street, Suite #402, Cleveland, OH 44114. You may inspect a copy at EPA Region 6, RCRA Permits Section (LCR-RP), Land, Chemicals and Redevelopment Division, EPA Region 6, 1201 Elm Street, Suite 500, Dallas, Texas 75270, (Phone number (214) 665-8533 or (214) 665-2760), or at the National Archives and Records Administration (NARA). For information on the availability of this material at NARA, email fedreg.legal@nara.gov, or go to: hwww.archives.gov/federal-register/cfr/ibr-locations.html.

* * * * *

Subpart LL—Oklahoma

45. Section 272.1851 is amended by revising paragraph (c)(1) introductory text to read as follows:

§ 272.1851 Oklahoma State-Administered program: Final authorization.

(c) * * *

(1) The Oklahoma statutes and regulations cited in paragraph (c)(1)(i) of this section are incorporated by reference as part of the hazardous waste management program under subtitle C of RCRA, 42 U.S.C. 6921 et seq. The Director of the Federal Register approves this incorporation by reference in accordance with 5 U.S.C. 552(a) and 1 CFR part 51. You may obtain copies of the Oklahoma regulations that are incorporated by reference in this paragraph from the State's Office of Administrative Rules, Secretary of State, P.O. Box 53390, Oklahoma City, OK 73152-3390; Phone number: 405-521-4911; website: https://www.sos.ok.gov/oar/Default.aspx. The statutes are available from West Publishing Company, 610 Opperman Drive, P. O. Box 64526, St. Paul, Minnesota 55164 0526; Phone: 1-800-328-4880; website: http://west.thomson.com. You may inspect a copy at EPA Region 6, RCRA Permits Section (LCR-RP), Land, Chemicals and Redevelopment Division, EPA Region 6, 1201 Elm Street, Suite 500, Dallas, Texas 75270 (Phone number (214) 665-8533 or (214) 665-2760), or at the National Archives and Records Administration (NARA). For information on the availability of this material at NARA, email fedreg.legal@nara.gov, or go to: www.archives.gov/federal-register/cfr/ibr-locations.html.

* * * * *

Subpart SS—Texas

46. Section 272.2201 is amended by revising paragraphs (c)(1) introductory text and (c)(4)(i) introductory text to read as follows:

§ 272.2201 Texas State-administered program: Final authorization.

(c) * * *

(1) The Texas statutes and regulations cited in paragraph (c)(1)(i) of this section are incorporated by reference as part of the hazardous waste management program under Subtitle C of RCRA, 42 U.S.C. 6921 et seq. This incorporation by reference is approved by the Director of the Federal Register in accordance with 5 U.S.C. 552(a) and 1 CFR part 51. Copies of the Texas regulations that are incorporated by reference in this paragraph are available from West Group Publishing, 610 Opperman Drive, Eagan, 55123, ATTENTION: Order Entry; Phone: 1-800-328-9352; website: http://west.thomson.com. You may inspect a copy at EPA Region 6, RCRA Permits Section (LCR-RP), Land, Chemicals and Redevelopment Division, Phone number: (214) 665-8533 or (214) 665-2760, or at the National Archives and Records Administration (NARA). For information on the availability of this material at NARA, email fedreg.legal@nara.gov, or go to: www.archives.gov/federal-register/cfr/ibr-locations.html.

* * * * *

(4) * * *

(i) The following authorized provisions of the Texas regulations include amendments published in the Texas Register that are not approved by EPA. Such unauthorized amendments are not part of the State's authorized program and are, therefore, not Federally enforceable. Thus, notwithstanding the language in the Texas hazardous waste regulations incorporated by reference at paragraph (c)(1)(i) of this section, EPA will enforce the State provisions that are actually authorized by EPA. The effective dates of the State's authorized provisions are listed in the table in this paragraph (c)(4)(i). The actual State regulatory text authorized by EPA (i.e., without the unauthorized amendments) is available as a separate document, Addendum to the EPA-Approved Texas Regulatory and Statutory Requirements Applicable to the Hazardous Waste Management Program, November 2014. Copies of the document can be obtained from U.S. EPA Region 6, RCRA Permits Section (LCR-RP), Land, Chemicals and Redevelopment Division, EPA Region 6, 1201 Elm Street, Suite 500, Dallas, Texas 75270.

* * * * *

PART 282—APPROVED UNDERGROUND STORAGE TANK PROGRAMS

47. The authority citation for part 282 continues to read as follows:

Authority: 42 U.S.C. 6912, 6991c, 6991d, and 6991e.

Subpart A—General Provisions

48. Section 282.2 is amended by revising paragraph (b)(6) to read as follows:

§ 282.2 Incorporation by reference.

* * * * *

(b)* * *

(6) Region 6 (Arkansas, Louisiana, New Mexico, Oklahoma, Texas): 1201 Elm Street, Suite 500, Dallas, Texas 75270-2102.

* * * * *

Subpart B—Approved State Programs

49. Section 282.86 is amended by revising paragraph (d)(1)(i) introductory text to read as follows:

§ 282.86 Oklahoma State-Administered Program.

* * * * *

(d)* * *

(1) State statutes and regulations—(i) Incorporation by reference. The Oklahoma provisions cited in this paragraph are incorporated by reference as part of the underground storage tank program under subtitle I of RCRA, 42 U.S.C. 6991 et seq. The Director of the Federal Register approves this incorporation by reference in accordance with 5 U.S.C. 552(a) and 1 CFR part 51. You may obtain copies of the Oklahoma regulations that are incorporated by reference in this paragraph from the State's Office of Administrative Rules, Secretary of State, P.O. Box 53390, Oklahoma City, OK 73152-3390; Phone number: 405-521-4911; website: https://www.sos.ok.gov/oar/Default.aspx. You may inspect all approved material at the EPA Region 6, 1201 Elm Street, Suite 500, Dallas, Texas 75270-2102; Phone number (214) 665-2239 or the National Archives and Records Administration (NARA). For information on the availability of the material at NARA, email fedreg.legal@nara.gov or go to www.archives.gov/federal-register/cfr/ibr-locations.html.

* * * * *

PART 374—PRIOR NOTICE OF CITIZEN SUITS

50. The authority citation for part 347 continues to read as follows:

Authority: 42 U.S.C. 9659.

51. Section 374.6 is amended by revising “Regional Administrator, Region VI” to read as follows:

§ 374.6 Addresses.

* * * * *

Regional Administrator, Region VI, U.S. Environmental Protection Agency, 1201 Elm Street, Suite 500, Dallas, Texas 75270-2102.

* * * * *

PART 707—CHEMICAL IMPORTS AND EXPORTS

52. The authority citation for part 707 continues to read as follows:

Authority: 15 U.S.C. 2611(b) and 2612.

Subpart B—General Import Requirements and Restrictions

53. Section 702.20 is amended in paragraph (c)(2)(ii) by revising “Region VI” to read as follows:

§ 707.20 Chemical substances import policy.

* * * * *

(c)* * *

(2)* * *

(ii)* * *

Region VI

1201 Elm Street, Suite 500, Dallas, Texas 75270-2102 (214-665-2760).

* * * * *

PART 763—ASBESTOS

54. The authority citation for part 763 continues to read as follows:

Authority: 15 U.S.C. 2605, 2607(c), 2643, and 2646.

Subpart E—Asbestos Containing Materials in Schools.

55. Appendix C to Subpart E is amended under section II.C.3 by revising the “EPA, Region VI” to read as follows:

Appendix C to Subpart E of Part 763—Asbestos Model Accreditation Plan

* * * * *

II. * * *

C. * * *

3. * * *

EPA, Region VI, (ECD), Asbestos Coordinator, 1201 Elm Street, Suite 500, Dallas, TX 75270, (214) 655-2760.

* * * * *

56. Appendix D to Subpart E is amended by revising “Region VI” to read as follows:

Appendix D to Subpart E of Part 763—Transport and Disposal of Asbestos Waste

* * * * *

Region VI

Asbestos NESHAP Contact, Enforcement and Compliance Assurance Division, USEPA Region VI, 1201 Elm Street, Suite 500, Mail Code 6ECD, Dallas, Texas 75270-2102, (214) 655-2760.

* * * * *

[FR Doc. 2019-17747 Filed 8-22-19; 8:45 am]

BILLING CODE 6560-50-P